DEPARTMENT OF JUSTICE

Notice of Lodging of Consent Decree Under the Comprehensive Environmental Response, Compensation, and Liability Act

Consistent with Section 122 of the Comprehensive Environmental Response, Compensation, and Liability Act of 1980, as amended (“CERCLA”), 42 U.S.C. 9622(d), and 28 CFR 50.7, notice is hereby given that on October 9, 2009, the United States lodged a Consent Decree with the City of South Lake Tahoe, California (“the City”) in United States of America v. El Dorado County, California, et al., Civil No. S-01-1520 MCE GGH (E.D. Cal.), with respect to the Meyers Landfill Site, located in Meyers, El Dorado County, California (the “Site”).

On August 3, 2001, Plaintiff United States of America (“United States”), on behalf of the United States Department of Agriculture, Forest Service (“Forest Service”), filed a complaint in this matter pursuant to Section 107 of the Comprehensive Environmental Response, Compensation, and Liability Act (“CERCLA”), 42 U.S.C. 9607, against Defendants, El Dorado County, California (the “County”) and the City. The complaint filed by the United States seeks recovery of environmental response costs incurred by the Forest Service related to the release or threatened release and/or disposal of hazardous substances at or from the Meyers Landfill Site, a former municipal waste disposal facility located on National Forest Service System lands administered by the Lake Tahoe Basin Management Unit of the Forest Service, with accrued interest, and a declaration of the County's and the City's liability for future response costs incurred by the United States related to the Site. The City filed counterclaims against the United States pursuant to CERCLA. The proposed Consent Decree resolves the United States' CERCLA claims against the City and the City's CERCLA claims against the United States.

Under the proposed Consent Decree the City will pay $1.6 million, a portion of which will be deposited into a Forest Service Special account to fund future response actions at the Site and a portion of which will go to the Forest Service to fund response actions related to groundwater at the Site, including a Remedial Investigation/Feasibility Study and the selection of a remedy for contaminated groundwater at the Site. In exchange for the City's payment, the City will receive from the United States a covenant not to sue or to take administrative action pursuant to Sections 106 or 107 of CERCLA, 42 U.S.C. 9606 and 9607, as amended, for the performance of response actions at the Site and the United States' past and future response costs at the Site. In addition, the City will dismiss its CERCLA claims against the Forest Service. The Department of Justice will receive for a period of thirty (30) days from the date of this publication comments relating to the Consent Decree. Comments should be addressed to the Acting Assistant Attorney General, Environment and Natural Resources Division, and either e-mailed to pubcomment-ees.enrd@usdoj.gov or mailed to P.O. Box 7611, U.S. Department of Justice, Washington, DC 20044-7611, and should refer to United States of America v. El Dorado County, California, et al., Civil No. S-01-1520 MCE GGH (E.D. Cal.) (DOJ Ref. No. 90-11-3-06554)(Consent Decree with City).

The Consent Decree with the City may be examined at U.S. Department of Agriculture, Office of General Counsel, 33 New Montgomery Street, 17th Floor, San Francisco, CA 94150 (contact Rose Miksovsky, (415) 744-3158). During the public comment period, the Consent Decree with the District may also be examined on the following Department of Justice Web site, http://www.usdoj.gov/enrd/Consent_Decrees.html. A copy of the Consent Decree with the City may also be obtained by mail from the Consent Decree Library, U.S. Department of Justice, P.O. Box 7611, Washington, DC 20044-7611 or by faxing or e-mailing a request to Tonia Fleetwood (tonia.fleetwood@usdoj.gov), fax no. (202) 514-0097, phone confirmation number (202) 514-1547. In requesting a copy from the Consent Decree Library, please refer to United States of America v. El Dorado County, California, et al., Civil No. S-01-1520 MCE GGH (E.D. Cal.) (DOJ Ref. No. 90-11-3-06554) (Consent Decree with City), and enclose a check in the amount of $35.75 (25 cents per page reproduction cost) payable to the U.S. Treasury or, if by e-mail or fax, forward a check in that amount to the Consent Decree Library at the stated address.

Maureen Katz,
Assistant Section Chief, Environmental Enforcement Section, Environment and Natural Resources Division.

[FR Doc. E9-25216 Filed 10-20-09; 8:45 am]

BILLING CODE 4410-15-P